DEPARTMENT OF EDUCATION

Office of Elementary and Secondary Education-School Improvement Programs; Native Hawaiian Curriculum Development, Teacher Training and Recruitment Program

AGENCY: Department of Education.

ACTION: Notice of Final Priorities for Fiscal Year (FY) 2000.

SUMMARY: The Secretary announces final funding priorities for the Fiscal Year (FY) 2000 grant competition under the Native Hawaiian Curriculum Development, Teacher Training and Recruitment Program. After funding continuation awards, the Secretary would use the remaining FY 2000 funds available under the program to award new grants to support activities in one or more of the following areas: (1) Computer literacy and technology education, (2) agriculture education partnerships, (3) astronomy, (4) indigenous health, (5) waste management innovation, (6) prisoner education, and (7) marine resource management.

EFFECTIVE DATE: July 17, 2000.

FOR FURTHER INFORMATION CONTACT: Mrs. Lynn Thomas, U.S. Department of Education, 400 Maryland Avenue, SW., FOB6, Room 3C124, Mail Stop 6140, Washington, DC 20202. Telephone 202-260-1541. The e-mail address for Mrs. Thomas is: lynn_thomas@ed.gov. Individuals who use a telecommunications device for the deaf (TDD) may call the Federal Information Relay Service (FIRS) at 1-800-877-8339.

Individuals with disabilities may obtain this document in an alternative format (e.g., Braille, large print, audiotape, or computer diskette) on request to the contact person listed in the preceding paragraph.

Note: This notice of final priorities does not solicit applications. A notice inviting applications under this competition is published elsewhere in this issue of the Federal Register. The notice inviting applications will specify the deadline date which applications for an award must be mailed or hand-delivered to the Department.

SUPPLEMENTARY INFORMATION: The Secretary published a notice of proposed priorities for this competition in the Federal Register on March 21, 2000, (65 FR 15139-15140). There are no differences between the priorities in the notice of proposed priorities and this notice of final priorities.

Comment: In the notice of proposed priorities, the Secretary invited comments on the proposed priorities. The only substantive comment we received suggested that prisoner education receive the highest priority and the largest portion of the funding.

Discussion: The Secretary believes that there is a need for services in each of the priority areas, and will determine the amount of funding to be awarded under each priority on the basis of the quality of the applications received.

Changes: None.

Absolute Priorities: Under 34 CFR 75.105(c)(3), the Secretary gives an absolute preference to applications that focus entirely on activities in one of the following seven areas:

(1) Computer literacy and technology education—to support curriculum development, teacher training, and model programs designed to increase computer literacy and access for Native Hawaiian elementary and secondary school students;

(2) Agriculture education partnerships—to support the integration of agricultural and businesses practices into high school curriculum through the expansion of partnerships between community-based agricultural businesses and high schools with high concentrations of Native Hawaiian students;

(3) Astronomy—to support the development of educational programs in astronomy for Native Hawaiian elementary and secondary school students to assist them in reaching challenging science and mathematics standards and to encourage them to enter the field of astronomy;

(4) Indigenous health—to support curriculum development, teacher training, and instruction activities that will foster a better understanding and knowledge of Native Hawaiian traditional medicine, particularly among Native Hawaiian elementary and secondary students;

(5) Waste management innovation—to study and document traditional Hawaiian practices of sustainable waste management and to prepare teaching materials for educational purposes and for demonstration on the use of native Hawaiian plants and animals for waste treatment and environmental remediation;

(6) Prisoner education—to support programs that target juvenile offenders and/or youth at risk of becoming juvenile offenders. Comprehensive and culturally sensitive strategies for reaching the target population will include family counseling, basic education/jobs skills training, and the involvement of community elders as mentors; and

(7) Marine resource management—to support programs designed to teach Native Hawaiian elementary and secondary students about traditional fishery management techniques used in the Native Hawaiian culture.

Program Authority: Section 9209 of the Elementary and Secondary Education Act of 1965, as amended (20 U.S.C. 7909).

Electronic Access to This Document

You may review this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: June 12, 2000.
Michael Cohen,
Assistant Secretary for Elementary and Secondary Education.

[FR Doc. 00-15247 Filed 6-14-00; 8:45 am]

BILLING CODE 4000-01-U